DEPARTMENT OF TRANSPORTATION

Federal Aviation Administration

14 CFR Part 73

[Docket No. FAA-2014-0875; Airspace Docket No. 14-ASO-13]

RIN 2120-AA66

Amendment of Restricted Area Boundary Descriptions; Cape Canaveral, FL

AGENCY: Federal Aviation Administration (FAA), DOT.

ACTION: Final rule; technical amendment, correction.

SUMMARY: This action corrects a final rule; technical amendment, published in the Federal Register on December 15, 2014, that made minor adjustments to the boundary descriptions of restricted areas R-2932, R-2933, R-2934 and R-2935 at Cape Canaveral, FL. Due to a submission error, one latitude/longitude point was omitted from the description of restricted area R-2935, Cape Canaveral, FL. This action corrects the boundary description of R-2935 by adding the missing point.

DATES: Effective date 0901 UTC, March 5, 2015.

FOR FURTHER INFORMATION CONTACT: Paul Gallant, Airspace Policy and Regulations Group, AJV-11, Office of Airspace Services, Federal Aviation Administration, 800 Independence Avenue SW., Washington, DC 20591; telephone: (202) 267-8783.

SUPPLEMENTARY INFORMATION:

Background

On December 15, 2014, the FAA published a final rule; technical amendment in the Federal Register that made minor adjustments to the boundary descriptions of restricted areas R-2932, R-2933, R-2934 and R-2935 at Cape Canaveral, FL (79 FR 74016). Subsequent to publication, it was determined that one latitude/longitude coordinate had been omitted from the boundary description of restricted area R-2935. The omission causes a slight gap between the boundaries of R-2935 and adjacent restricted areas. This correction inserts “lat. 28°25′01″ N., long 80°37′59″ W.,” between the points “lat. 28°25′01″ N., long. 80°41′44″ W.,” and “lat. 28°24′31″ N., long. 80°29′52″ W.”

List of Subjects in 14 CFR Part 73

Airspace, Prohibited areas, Restricted areas.

Correction to Final Rule; Technical Amendment

Accordingly, pursuant to the authority delegated to me, the boundary description of restricted area R-2935 Cape Canaveral, FL, as published in the Federal Register on December 15, 2014 (79 FR 74016) (FR Doc. 2014-29268) is corrected under the description as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.29 [Corrected]

* * * * *

R-2935 Cape Canaveral, FL [Corrected]

On page 74018, first column, remove the current boundaries and add in its place the following:

Boundaries. Beginning at lat. 28°47′21″ N., long. 81°04′59″ W.; to lat. 28°58′02″ N., long. 80°46′58″ W.; thence 3 NM from and parallel to the shoreline; to lat. 28°51′16″ N., long. 80°42′29″ W.; to lat. 28°51′16″ N., long. 80°47′14″ W.; to lat. 28°49′11″ N., long. 80°50′44″ W.; to lat. 28°38′01″ N., long. 80°47′01″ W.; to lat. 28°31′21″ N., long. 80°43′49″ W.; to lat. 28°25′01″ N., long. 80°41′44″ W.; to lat. 28°25′01″ N., long. 80°37′59″ W.; to lat. 28°24′31″ N., long. 80°29′52″ W.; thence 3 NM from and parallel to the shoreline; to lat. 28°19′01″ N., long. 80°33′00″ W.; to lat. 28°19′01″ N., long. 80°46′29″ W.; to the point of beginning.

Issued in Washington, DC, on February 19, 2015.
Gary A. Norek,
Manager, Airspace Policy and Regulations Group.

[FR Doc. 2015-04290 Filed 2-27-15; 8:45 am]

BILLING CODE 4910-13-P